POSTAL SERVICE

Changes in Domestic Rates and Fees on Modification

AGENCY: Postal Service.

ACTION: Notice of implementation of changes to domestic rates and fees.

SUMMARY: This notice sets forth the changes to domestic rates and fees to be implemented as a result of the Decision of the Governors of the United States Postal Service on the Recommended Decision on Further Reconsideration of the Postal Rate Commission on Postal Rate and Fee Changes, Docket No. R2000-1, dated May 7, 2001.

EFFECTIVE DATE: July 1, 2001.

FOR FURTHER INFORMATION CONTACT: Daniel J. Foucheaux, Jr., (202) 268-2989.

SUPPLEMENTARY INFORMATION: On January 12, 2000, pursuant to its authority under 39 U.S.C. 3621, et seq., the Postal Service filed with the Postal Rate Commission (PRC) a Request for a Recommended Decision on Proposed Changes in Rates of Postage and Fees for Postal Services (Request). The PRC designated the filing as Docket No. R2000-1. On November 13, 2000, pursuant to its authority under 39 U.S.C. 3624, the PRC issued its Recommended Decision on the Postal Service's Request to the Governors of the Postal Service.

Pursuant to 39 U.S.C. 3625, the Governors of the United States Postal Service acted on the PRC's recommendations on December 4, 2000. In one decision, the Governors rejected the PRC's recommendations regarding Courtesy Envelope Mail, Information-Based Inidicia Program Mail, a flat-rate envelope for Priority Mail, and maximum weight figures for Standard Mail letters and breakpoint figures for Standard Mail. Decision of the Governors of the United States Postal Service on the Recommended Decision of the Postal Rate Commission on Selected Mail Classification Matters, Docket No. R2000-1. In the second decision, the Governors acted on the remainder of the PRC's recommendations. Decision of the Governors of the United States Postal Service on the Recommended Decision of the Postal Rate Commission on Postal Rate and Fee Changes, Docket No. R2000-1. The Governors allowed under protest all of the remaining classification, fee, and rate changes. The Governors requested reconsideration of a number of issues from the Commission, including revenue requirement, First-Class Mail costs, Bound Printed Matter rates, and nonprofit Standard Mail rates. The Commission thereafter issued a notice soliciting comments on matters allowed under protest in the Governors' decision.

In the Commission's Further Recommended Decision, issued on February 9, 2001, the Commission recommended changes to rates for Bound Printed Matter and Certified Mail, but declined to make further adjustments in the revenue requirement. In a decision dated March 5, 2001, the Governors rejected the Commission's Further Recommended Decision, and resumbitted the Request, pursuant to 39 U.S.C.3625(d). Decision of the Governors of the Unitd States Postal Service on the Further Recommended Decision of the Postal Rate Commission on Postal Rate and Fee Changes, Docket No. R2000-1. On April 10, 2001, the Commission issued an Opinion and Recommended Decision on Further Reconsideration, wherein it declined to reconsider its rate recommendations. On May 7, 2001, the Governors exercised their authority to modify the rates recommended by the Commission. Decision of the Governors of the United States Postal Service on the Recommended Decision on Further Reconsideration of the Postal Rate Commission on Postal Rate and Fee Changes, Docket No. R2000-1.

Attachment A to the Governors' Decision on Further Reconsideration, setting forth the fee and rate changes ordered into effect by the Governors, is set forth below. The rates and fees shown below reflect the revisions made to Rate Schedules 122 (Express Mail Custom Designed), 521.2C (Parcel Select DMBC Rates), and 522A-D (Bound Printed Matter) in errata issued on May 15, 2001. In accordance with the Decision of the Governors and Resolution No. 01-8 of the Board of Governors, the Postal Service hereby gives notice that the rate and fee changes set forth below will become effective at 12:01 a.m. on July 1, 2001.

Attachment A To The Decision Of The Governors Of The United States Postal Service On The Recommended Decision On Further Reconsideration Of The Postal Rate Commission On Postal Rate And Fee Changes, Docket No. R2000-1

Modified Rate and Fee Schedules
[Express Mail Schedules 121, 122 and 123]
Weight not exceeding (pounds) | Schedule 121 Same Day Airport Service | Schedule 122 Custom Designed | Schedule 123 Next Day and Second Day PO to PO | Schedule 123 Next Day and Second Day PO to Addressee
\1/2\ |  | $9.40 | $9.55 | $12.45
1 |  | 13.95 | 14.10 | 16.25
2 |  | 13.95 | 14.10 | 16.25
3 |  | 16.90 | 17.05 | 19.15
4 |  | 19.75 | 19.90 | 22.05
5 |  | 22.60 | 22.75 | 24.85
6 |  | 25.45 | 25.60 | 27.70
7 |  | 28.15 | 28.30 | 30.45
8 |  | 29.40 | 29.55 | 31.65
9 |  | 30.65 | 30.80 | 32.95
10 |  | 31.85 | 32.00 | 34.15
11 |  | 33.40 | 33.55 | 35.70
12 |  | 35.85 | 36.00 | 38.10
13 |  | 37.10 | 37.25 | 39.85
14 |  | 38.50 | 38.65 | 40.80
15 |  | 39.75 | 39.90 | 42.00
16 |  | 41.10 | 41.25 | 43.40
17 |  | 42.50 | 42.65 | 44.75
18 |  | 43.75 | 43.90 | 46.05
19 |  | 45.05 | 45.20 | 47.35
20 |  | 46.45 | 46.60 | 48.70
21 |  | 47.70 | 47.90 | 50.00
22 |  | 49.00 | 49.20 | 51.30
23 |  | 50.40 | 50.60 | 52.70
24 |  | 51.65 | 51.80 | 53.95
25 |  | 53.00 | 53.20 | 55.25
26 |  | 54.30 | 54.45 | 56.60
27 |  | 55.65 | 55.85 | 57.90
28 |  | 56.95 | 57.10 | 59.25
29 |  | 58.30 | 58.45 | 60.55
30 |  | 59.65 | 59.80 | 61.90
31 |  | 60.95 | 61.10 | 63.20
32 |  | 62.25 | 62.40 | 64.55
33 |  | 63.60 | 63.75 | 65.80
34 |  | 64.90 | 65.05 | 67.20
35 |  | 66.25 | 66.40 | 68.45
36 |  | 67.55 | 67.70 | 69.85
37 |  | 68.80 | 68.95 | 71.35
38 |  | 70.40 | 70.35 | 73.00
39 |  | 72.00 | 71.65 | 74.60
40 |  | 73.65 | 73.10 | 76.25
41 |  | 75.25 | 74.70 | 77.85
42 |  | 76.90 | 76.35 | 79.55
43 |  | 78.50 | 77.95 | 81.10
44 |  | 80.15 | 79.60 | 82.70
45 |  | 81.75 | 81.20 | 84.15
46 |  | 83.10 | 82.75 | 85.40
47 |  | 84.50 | 84.45 | 86.90
48 |  | 85.85 | 86.00 | 88.20
49 |  | 87.20 | 87.35 | 89.50
50 |  | 88.50 | 88.65 | 90.85
51 |  | 89.95 | 90.15 | 92.30
52 |  | 91.25 | 91.40 | 93.60
53 |  | 92.65 | 92.80 | 95.00
54 |  | 94.00 | 94.15 | 96.30
55 |  | 95.30 | 95.50 | 97.70
56 |  | 96.80 | 96.95 | 99.10
57 |  | 98.05 | 98.20 | 100.40
58 |  | 99.40 | 99.55 | 101.80
59 |  | 100.95 | 101.10 | 103.30
60 |  | 102.50 | 102.65 | 104.85
61 |  | 104.25 | 104.40 | 106.60
62 |  | 105.80 | 105.95 | 108.20
63 |  | 107.45 | 107.60 | 109.75
64 |  | 109.10 | 109.30 | 111.50
65 |  | 110.75 | 110.90 | 113.05
66 |  | 112.45 | 112.60 | 114.80
67 |  | 114.05 | 114.20 | 116.35
68 |  | 115.75 | 115.90 | 118.10
69 |  | 117.35 | 117.50 | 119.65
70 |  | 118.95 | 119.10 | 121.30
Schedules 121, 122 and 123 Notes:
1. The applicable 2-pound rate is charged for matter sent in a ‘flat rate’ envelope provided by the Postal Service.
2. Add $10.25 for each pickup stop.
3. Add $10.25 for each Custom Designed delivery stop.

First-Class Mail Rate Schedule 221
[Letters and Sealed Parcels]
| Rate (cents)
Regular
Single Piece: First Ounce | 34.0
Presort ¹ | 32.2
Qualified Business Reply Mail | 31.0
Additional Ounce ² | 23.0
Nonstandard Surcharge
Single Piece | 11.0
Presort | 5.0
Automation-Presort ¹
Letters ³
Basic Presort ⁴ | 28.0
3-Digit Presort ⁵ | 26.9
5-Digit Presort ⁶ | 25.5
Carrier Route Presort ⁷ | 24.5
Flats ⁸
Basic Presort ⁹ | 31.2
3-Digit Presort ¹⁰ | 29.7
5-Digit Presort ¹¹ | 27.7
Additional Ounce ² | 23.0
Nonstandard Surcharge | 5.0
Schedule 221 Notes
¹ A mailing fee of $125.00 must be paid once each year at each office of mailing by any person who mails other than Single Piece First-Class Mail. Payment of the fee allows the mailer to mail at any First-Class rate. For presorted mailings weighing more than 2 ounces, subtract 4.6 cents per piece.
² Rate applies through 13 ounces. Heavier pieces are subject to Priority Mail rates.
³ Rates apply to bulk-entered mailings of at least 500 letter-size pieces, which must be delivery point barcoded and meet other preparation requirements specified by the Postal Service and, for the Basic Presort rate, documents provided for entry as mail using Mailing Online or a functionally equivalent service, pursuant to section 981.
⁴ Rate applies to letter-size Automation-Presort category mail not mailed at 3-Digit, 5-Digit, or Carrier Route rates.
⁵ Rate applies to letter-size Automation-Presort category mail presorted to single or multiple three-digit ZIP Code destinations specified by the Postal Service.
⁶ Rate applies to letter-size Automation-Presort category mail presorted to single or multiple five-digit ZIP Code destinations specified by the Postal Service.
⁷ Rate applies to letter-size Automation-Presort category mail presorted to carrier routes specified by the Postal Service.
⁸ Rates apply to bulk-entered mailings of at least 500 flat-size pieces, each of which must be delivery point barcoded or bear a ZIP+4 barcode, and must meet other preparation requirements specified by the Postal Service, and, for the Basic Presort rate, to documents provided for entry as mail using Mailing Online or a functionally equivalent service, pursuant to section 981.
⁹ Rate applies to flat-size Automation-Presort category mail not mailed at the 3-Digit or 5-Digit rate.
¹⁰ Rate applies to flat-size Automation-Presort category mail presorted to single or multiple three-digit ZIP Code destinations specified by the Postal Service.
¹¹ Rate applies to flat-size Automation-Presort category mail presorted to single or multiple five-digit ZIP Code destinations specified by the Postal Service.

First-Class Mail Rate Schedule 222
[Cards]
| Rate (cents)
Regular
Single Piece | 21.0
Presort ¹ | 19.0
Qualified Business Reply Mail | 18.0
Automation-Presort \1, 2\
Basic Presort ³ | 17.4
3-Digit Presort ⁴ | 16.8
5-Digit Presort ⁵ | 16.1
Carrier Route Presort ⁶ | 15.0
Schedule 222 Notes
¹ A mailing fee of $125.00 must be paid once each year at each office of mailing by any person who mails other than Single Piece First-Class Mail. Payment of the fee allows the mailer to mail at any First-Class rate.
² Rates apply to bulk-entered mailings of at least 500 pieces, which must be barcoded and meet other preparation requirements specified by the Postal Service and, for the Basic Presort rate, to documents provided for entry as mail using Mailing Online or a functionally equivalent service, pursuant to section 981.
³ Rate applies to Automation-Presort category mail not mailed at 3-Digit, 5-Digit, or Carrier Route rates.
⁴ Rate applies to Automation-Presort category mail presorted to single or multiple three-digit ZIP Code destinations as specified by the Postal Service.
⁵ Rate applies to Automation-Presort category mail presorted to single or multiple five-digit ZIP Code destinations as specified by the Postal Service.
⁶ Rate applies to Automation-Presort category mail presorted to carrier routes specified by the Postal Service.

First-Class Mail Schedule 223
[Priority Mail Subclass]
Weight not exceeding (pounds) | Zones L1, 2, 3 | Zone 4 | Zone 5 | Zone 6 | Zone 7 | Zone 8
1 | $3.50 | $3.50 | $3.50 | $3.50 | $3.50 | $3.50
2 | 3.95 | 3.95 | 3.95 | 3.95 | 3.95 | 3.95
3 | 5.20 | 5.20 | 5.20 | 5.20 | 5.20 | 5.20
4 | 6.45 | 6.45 | 6.45 | 6.45 | 6.45 | 6.45
5 | 7.70 | 7.70 | 7.70 | 7.70 | 7.70 | 7.70
6 | 8.10 | 8.30 | 8.35 | 8.50 | 9.55 | 10.40
7 | 8.40 | 8.90 | 9.00 | 9.30 | 10.60 | 11.85
8 | 8.50 | 9.50 | 9.65 | 10.10 | 11.65 | 13.30
9 | 8.65 | 10.10 | 10.30 | 10.90 | 12.70 | 14.75
10 | 8.75 | 10.65 | 10.95 | 11.80 | 13.75 | 16.20
11 | 9.00 | 11.25 | 11.60 | 12.80 | 14.80 | 17.65
12 | 9.25 | 11.85 | 12.25 | 13.75 | 15.85 | 19.10
13 | 9.65 | 12.45 | 12.90 | 14.75 | 16.90 | 20.55
14 | 10.05 | 13.05 | 13.55 | 15.70 | 17.95 | 22.00
15 | 10.45 | 13.65 | 14.20 | 16.65 | 19.00 | 23.45
16 | 10.85 | 14.25 | 14.85 | 17.60 | 20.05 | 24.90
17 | 11.25 | 14.85 | 15.50 | 18.60 | 21.10 | 26.35
18 | 11.65 | 15.45 | 16.30 | 19.55 | 22.15 | 27.80
19 | 12.05 | 16.05 | 17.05 | 20.50 | 23.20 | 29.25
20 | 12.45 | 16.65 | 17.85 | 21.40 | 24.25 | 30.70
21 | 12.85 | 17.25 | 18.60 | 22.40 | 25.30 | 32.15
22 | 13.25 | 17.85 | 19.35 | 23.35 | 26.35 | 33.60
23 | 13.65 | 18.45 | 20.15 | 24.30 | 27.40 | 35.05
24 | 14.05 | 19.05 | 20.95 | 25.25 | 28.45 | 36.50
25 | 14.45 | 19.65 | 21.75 | 26.25 | 29.50 | 37.95
26 | 14.85 | 20.25 | 22.45 | 27.20 | 30.55 | 39.40
27 | 15.25 | 20.85 | 23.25 | 28.15 | 31.60 | 40.85
28 | 15.65 | 21.45 | 24.05 | 29.10 | 32.65 | 42.30
29 | 16.05 | 22.05 | 24.85 | 30.05 | 33.70 | 43.75
30 | 16.45 | 22.65 | 25.60 | 31.05 | 34.75 | 45.20
31 | 16.85 | 23.25 | 26.35 | 31.95 | 35.80 | 46.65
32 | 17.25 | 23.85 | 27.15 | 32.90 | 36.85 | 48.10
33 | 17.65 | 24.45 | 27.95 | 33.85 | 37.90 | 49.55
34 | 18.05 | 25.05 | 28.70 | 34.80 | 38.95 | 51.00
35 | 18.45 | 25.65 | 29.50 | 35.80 | 40.00 | 52.45
36 | 18.85 | 26.25 | 30.25 | 36.75 | 41.05 | 53.90
37 | 19.25 | 26.95 | 31.05 | 37.70 | 42.10 | 55.35
38 | 19.65 | 27.55 | 31.80 | 38.70 | 43.15 | 56.80
39 | 20.05 | 28.25 | 32.60 | 39.65 | 44.20 | 58.25
40 | 20.45 | 28.95 | 33.40 | 40.60 | 45.25 | 59.70
41 | 20.85 | 29.55 | 34.15 | 41.55 | 46.30 | 61.15
42 | 21.25 | 30.25 | 34.90 | 42.45 | 47.40 | 62.60
43 | 21.65 | 30.90 | 35.70 | 43.45 | 48.45 | 64.05
44 | 22.05 | 31.55 | 36.50 | 44.40 | 49.55 | 65.50
45 | 22.45 | 32.25 | 37.25 | 45.35 | 50.60 | 66.95
46 | 22.85 | 32.90 | 38.00 | 46.30 | 51.65 | 68.40
47 | 23.25 | 33.55 | 38.80 | 47.30 | 52.75 | 69.85
48 | 23.65 | 34.25 | 39.60 | 48.25 | 53.80 | 71.30
49 | 24.05 | 34.90 | 40.35 | 49.20 | 54.90 | 72.75
50 | 24.45 | 35.55 | 41.15 | 50.15 | 55.95 | 74.20
51 | 24.85 | 36.25 | 41.90 | 51.10 | 57.00 | 75.65
52 | 25.25 | 36.90 | 42.70 | 52.10 | 58.05 | 77.10
53 | 25.65 | 37.55 | 43.45 | 53.05 | 59.10 | 78.55
54 | 26.05 | 38.20 | 44.25 | 53.95 | 60.15 | 80.00
55 | 26.45 | 38.90 | 45.05 | 54.90 | 61.20 | 81.45
56 | 26.85 | 39.55 | 45.80 | 55.90 | 62.25 | 82.90
57 | 27.25 | 40.20 | 46.55 | 56.85 | 63.30 | 84.35
58 | 27.65 | 40.90 | 47.35 | 57.80 | 64.35 | 85.80
59 | 28.05 | 41.55 | 48.15 | 58.75 | 65.40 | 87.25
60 | 28.45 | 42.20 | 48.95 | 59.75 | 66.45 | 88.70
61 | 28.85 | 42.90 | 49.65 | 60.70 | 67.50 | 90.15
62 | 29.25 | 43.50 | 50.45 | 61.65 | 68.55 | 91.60
63 | 29.65 | 44.20 | 51.25 | 62.60 | 69.60 | 93.05
64 | 30.05 | 44.90 | 52.05 | 63.60 | 70.65 | 94.50
65 | 30.45 | 45.50 | 52.75 | 64.50 | 71.70 | 95.95
66 | 30.85 | 46.20 | 53.55 | 65.45 | 72.75 | 97.40
67 | 31.25 | 46.90 | 54.35 | 66.40 | 73.80 | 98.85
68 | 31.65 | 47.50 | 55.15 | 67.35 | 74.85 | 100.30
69 | 32.05 | 48.20 | 55.90 | 68.35 | 75.90 | 101.75
70 | 32.45 | 48.90 | 56.65 | 69.30 | 76.95 | 103.20
Schedule 223 Notes
¹ The 2-pound rate is charged for matter sent in a “flat rate” envelope provided by the Postal Service.
² Add $10.25 for each pickup stop.
³ EXCEPTION: Parcels weighing less than 15 pounds, measuring over 84 inches in length and girth combined, are chargeable with a minimum rate equal to that for a 15-pound parcel for the zone to which addressed.

Standard Mail Rate Schedule 321A
[Regular Subclass Presort Categories¹]
| Rate (cents)
Letter Size
Piece Rate
Basic | 25.3
⅗-Digit | 23.3
Destination Entry Discount per Piece
BMC | 1.9
SCF | 2.4
Non-Letter Size ²
Piece Rate
Minimum per Piece ³
Basic | 32.2
⅗ Digit | 26.6
Destination Entry Discount per Piece
BMC | 1.9
SCF | 2.4
Pound Rate ³ | 66.8
Plus per Piece Rate
Basic | 18.4
⅗-Digit | 12.8
Destination Entry Discount per Pound
BMC | 9.3
SCF | 11.4
Schedule 321A Notes
¹ A fee of $125.00 must be paid each 12-month period for each bulk mailing permit.
² Residual shape pieces are subject to a surcharge of $0.18 per piece. For parcel barcode discount, deduct $0.03 per piece.
³ Mailer pays either the minimum piece rate or the pound rate, whichever is higher.

Standard Mail Rate Schedule 321B
[Regular Subclass Automation Categories¹]
| Rate (cents)
Letter Size ²
Piece Rate
Basic Letter ³ | 20.0
3-Digit Letter ⁴ | 19.0
5-Digit Letter ⁵ | 17.7
Destination Entry Discount per Piece
BMC | 1.9
SCF | 2.4
Flat Size ⁶
Piece Rate
Minimum per Piece ⁷
Basic Flat ⁸ | 27.8
⅗-Digit Flat ⁹ | 23.9
Destination Entry Discount per Piece
BMC | 1.9
SCF | 2.4
Pound Rate ⁷ | 66.8
Plus per piece Rate
Basic Flat ⁸ | 14.0
⅗-Digit Flat ⁹ | 10.1
Destination Entry Discount per Pound
BMC | 9.3
SCF | 11.4
Schedule 321B Notes
¹ A fee of $125.00 must be paid once each 12-month period for each bulk mailing permit.
² For letter-size automation pieces meeting applicable Postal Service regulations.
³ Rate applies to letter-size automation mail not mailed at 3-digit, 5-digit or carrier route rates.
⁴ Rate applies to letter-size automation mail presorted to single or multiple three-digit ZIP Code destinations as specified by the Postal Service.
⁵ Rate applies to letter-size automation mail presorted to single or multiple five-digit ZIP Code destinations as specified by the Postal Service.
⁶ For flat-size automation mail meeting applicable Postal Service regulations.
⁷ Mailer pays either the minimum piece rate or the pound rate, whichever is higher.
⁸ Rate applies to flat-size automation mail not mailed at ⅗-digit rate.
⁹ Rate applies to flat-size automation mail presorted to single or multiple three-and five-digit ZIP Code destinations as specified by the Postal Service.

Standard Mail Rate Schedule 322
[Enhanced Carrier Route Subclass ¹]
| Rate (cents)
Letter Size
Piece Rate
Basic | 17.8
Basic Automated Letter ² | 15.7
High Density | 15.3
Saturation | 14.5
Destination Entry Discount per Piece
BMC | 1.9
SCF | 2.4
DDU | 2.9
Non-Letter Size ³
Piece Rate
Minimum per Piece ⁴
Basic | 17.8
High Density | 15.6
Saturation | 14.9
Destination Entry Discount per Piece
BMC | 1.9
SCF | 2.4
DDU | 2.9
Pound Rate ⁴ | 63.8
Plus per Piece Rate
Basic | 4.6
High Density | 2.4
Saturation | 1.7
Destination Entry Discount per Pound
BMC | 9.3
SCF | 11.4
DDU | 14.0
¹ A fee of $125.00 must be paid each 12-month period for each bulk mailing permit.
² Rate applies to letter-size automation mail presorted to routes specified by the Postal Service.
³ Residual shape pieces are subject to a surcharge of $0.15 per piece.
⁴ Mailer pays either the minimum piece rate or the pound rate, whichever is higher.

Standard Mail Rate Schedule 323A
[Nonprofit Subclass Presort Categories ¹]
| Rates (cents)
Letter Size
Piece Rate
Basic | 15.8
⅗ Digit | 14.6
Destination Entry Discount per Piece
BMC | 1.9
SCF | 2.4
Non-Letter Size ²
Piece Rate
Minimum per Piece ³
Basic | 22.0
⅗ Digit | 17.1
Destination Entry Discount per Piece
BMC | 1.9
SCF | 2.4
Pound Rate ³ | 55.0
Plus per Piece Rate
Basic | 10.7
⅗ Digit | 5.8
Destination Entry Discount per Pound
BMC | 9.3
SCF | 11.4
¹ A fee of $125.00 must be paid once each 12-month period for each bulk mailing permit.
² Residual shape pieces are subject to a surcharge of $0.18 per piece. For parcel barcode discount, deduct $0.03 per piece.
³ Mailer pays either the minimum piece rate or the pound rate, whichever is higher.

Standard Mail Rate Schedule 323B
[Nonprofit Subclass Automation Categories ¹]
| Rate (cents)
Letter Size ²
Piece Rate
Basic Letter ³ | 13.3
3-Digit Letter ⁴ | 12.3
5-Digit Letter ⁵ | 10.8
Destination Entry Discount per Piece
BMC | 1.9
SCF | 2.4
Flat Size ⁶
Piece Rate
Minimum per Piece ⁷
Basic Flat ⁸ | 17.9
3/5-Digit Flat ⁹ | 15.4
Destination Entry Discount per Piece
BMC | 1.9
SCF | 2.4
Pound Rate ⁷ | 55.0
Plus per Piece Rate
Basic Flat ⁸ | 6.6
3/5-Digit Flat ⁹ | 4.1
Destination Entry Discount per Pound
BMC | 9.3
SCF | 11.4
¹ A fee of $125.00 must be paid once each 12-month period for each bulk mailing permit.
² For letter-size automation pieces meeting applicable Postal Service regulations.
³ Rate applies to letter-size automation mail not mailed at 3-digit, 5-digit or carrier route rates.
⁴ Rate applies to letter-size automation mail presorted to single or multiple three-digit ZIP Code destinations as specified by the Postal Service.
⁵ Rate applies to letter-size automation mail presorted to single or multiple five-digit ZIP Code destinations as specified by the Postal Service.
⁶ For flat-size automation mail meeting applicable Postal Service regulations.
⁷ Mailer pays either the minimum piece rate or the pound rate, whichever is higher.
⁸ Rate applies to flat-size automation mail not mailed at 3/5-digit rate.
⁹ Rate applies to flat-size automation mail presorted to single or multiple three- and five-digit ZIP Code destinations as specified by the Postal Service.

Standard Mail Rate Schedule 324
[Nonprofit Enhanced Carrier Route Subclass ¹]
| Rate (cents)
Letter Size
Piece Rate
Basic | 11.8
Basic Automated Letter ² | 10.5
High Density | 9.5
Saturation | 8.9
Destination Entry Discount per Piece
BMC | 1.9
SCF | 2.4
DDU | 2.9
Non-Letter Size ³
Piece Rate
Minimum per Piece ⁴
Basic | 11.8
High Density | 10.2
Saturation | 9.7
Destination Entry Discount per Piece
BMC | 1.9
SCF | 2.4
DDU | 2.9
Pound Rate ⁴ | 37.0
Plus per Piece Rate
Basic | 4.2
High Density | 2.6
Saturation | 2.1
Destination Entry Discount per Pound
BMC | 9.3
SCF | 11.4
DDU | 14.0
¹ A fee of $125.00 must be paid each 12-month period for each bulk mailing permit.
² Rate applies to letter-size automation mail presorted to routes specified by the Postal Service.
³ Residual shape pieces are subject to a surcharge of $0.15 per piece.
⁴ Mailer pays either the minimum piece rate or the pound rate, whichever is higher.

Periodicals Rate Schedule 421
[Outside County Subclass 1 2 12]
| Postage rate unit | Rate ³ (cents)
Per Pound
Nonadvertising Portion | Pound | 17.9
Advertising Portion ¹¹
Delivery Office ⁴ | Pound | 15.3
SCF ⁵ | Pound | 19.5
1&2 | Pound | 23.8
3 | Pound | 25.3
4 | Pound | 29.2
5 | Pound | 35.1
6 | Pound | 41.3
7 | Pound | 48.8
8 | Pound | 55.2
Science of Agriculture
Delivery Office | Pound | 11.5
SCF | Pound | 14.6
Zones 1&2 | Pound | 17.9
Per Piece
Less Nonadvertising Factor ⁶ |  | 6.7
Required Preparation ⁷ | Piece | 33.3
Presorted to 3-digit | Piece | 28.3
Presorted to 5-digit | Piece | 21.9
Presorted to Carrier Route | Piece | 13.9
Discounts:
Prepared to Delivery Office ⁴ | Piece | 1.7
Prepared to SCF ⁵ | Piece | 0.8
High Density ⁸ | Piece | 2.6
Saturation ⁹ | Piece | 4.4
Automation Discounts for Automation Compatible Mail ¹⁰
From Required:
Prebarcoded letter size | Piece | 6.7
Prebarcoded flats | Piece | 4.2
From 3-Digit:
Prebarcoded letter size | Piece | 5.2
Prebarcoded flats | Piece | 3.5
From 5-Digit:
Prebarcoded letter size | Piece | 4.1
Prebarcoded flats | Piece | 2.5
¹ The rates in this schedule also apply to Nonprofit (DMCS Section 422.2) and Classroom rate categories. These categories receive a 5 percent discount on all components of postage except advertising pounds. Moreover, the 5 percent discount does not apply to commingled nonsubscriber, nonrequestor, complimentary, and sample copies in excess of the 10 percent allowance under DMCS sections 412.34 and 413.42, or to Science of Agriculture mail.
² Rates do not apply to otherwise Outside County mail that qualifies for the Within County rates in Schedule 423.
³ Charges are computed by adding the appropriate per-piece charge to the sum of the nonadvertising portion and the advertising portion, as applicable.
⁴ Applies to carrier route (including high density and saturation) mail delivered within the delivery area of the originating post office.
⁵ Applies to mail delivered within the SCF area of the originating SCF office.
⁶ For postage calculations, multiply the proportion of nonadvertising content by this factor and subtract from the applicable piece rate.
⁷ Mail not eligible for carrier-route, 5-digit or 3-digit rates.
⁸ Applicable to high density mail, deducted from carrier route presort rate.
⁹ Applicable to saturation mail, deducted from carrier route presort rate.
¹⁰ For automation compatible mail meeting applicable Postal Service regulations.
¹¹ Not applicable to qualifying Nonprofit and Classroom publications containing 10 percent or less advertising content.
¹² For a “Ride-Along” item enclosed with or attached to a periodical, add $0.10 per copy (experimental).

Periodicals Rate Schedule 423%
[Within County]
| Rate (cents)
Per Pound
General | 14.6
Delivery Officer ¹ | 11.5
Per Piece
Required Presort | 10.1
Presorted to 3-digit | 9.3
Presorted to 5-digit | 8.4
Carrier Route Presort | 4.8
Per Piece Discount
Delivery Office ² | 0.5
High Density (formerly 125 piece) ³ | 1.5
Saturation | 2.1
Automation Discounts for Automation Compatible Mail ⁴
From Required: | 5.2
Prebarcoded Letter size
Prebarcoded Flat size | 2.7
From 3-digit:
Prebarcoded Letter size | 4.6
Prebarcoded Flat size | 2.4
From 5-digit:
Prebarcoded Letter size | 3.9
Prebarcoded Flat size | 2.1
¹ Applicable only to carrier route (including high density and saturation) presorted pieces to be delivered within the delivery area of the originating post office.
² Applicable only to carrier presorted pieces to be delivered within the delivery area of the originating post office.
³ Applicable to high density mail, deducted from carrier route presort rate. Mailers also may qualify for this discount on an alternative basis as provided in DMCS section 423.83.
⁴ For automation compatible pieces meeting applicable Postal Service regulations.
⁵ For a “Ride-Along” item enclosed with or attached to a periodical, add $0.10 per copy (experimental).

Package Services Rate Schedule 521.2A
[Parcel Post SubClass Inter-BMC Rates]
Weight not exceeding (pounds) | Zone 1&2 | Zone 3 | Zone 4 | Zone 5 | Zone 6 | Zone 7 | Zone 8
1 | $3.42 | $3.45 | $3.45 | $3.45 | $3.45 | $3.45 | $3.45
2 | 3.42 | 3.45 | 3.45 | 3.45 | 3.45 | 3.45 | 3.45
3 | 3.90 | 4.23 | 4.66 | 4.71 | 4.76 | 4.81 | 4.86
4 | 4.05 | 4.51 | 5.33 | 5.80 | 5.95 | 6.00 | 6.05
5 | 4.19 | 4.76 | 5.78 | 7.00 | 7.15 | 7.20 | 7.25
6 | 4.33 | 5.01 | 6.20 | 7.70 | 8.03 | 8.25 | 8.84
7 | 4.46 | 5.23 | 6.59 | 8.38 | 8.90 | 9.49 | 10.69
8 | 4.60 | 5.44 | 6.92 | 8.96 | 9.60 | 10.74 | 12.53
9 | 4.70 | 5.63 | 7.28 | 9.50 | 10.30 | 11.99 | 14.20
10 | 4.83 | 5.82 | 7.58 | 10.01 | 11.00 | 13.24 | 15.26
11 | 4.93 | 6.00 | 7.89 | 10.48 | 11.70 | 14.20 | 16.14
12 | 5.03 | 6.16 | 8.17 | 10.92 | 12.40 | 15.15 | 16.98
13 | 5.13 | 6.30 | 8.43 | 11.33 | 13.10 | 16.10 | 17.79
14 | 5.23 | 6.48 | 8.69 | 11.72 | 13.80 | 17.05 | 18.57
15 | 5.32 | 6.62 | 8.94 | 12.08 | 14.44 | 17.66 | 19.33
16 | 5.40 | 6.76 | 9.17 | 12.42 | 14.86 | 18.20 | 20.05
17 | 5.50 | 6.88 | 9.40 | 12.74 | 15.28 | 18.72 | 20.76
18 | 5.58 | 7.01 | 9.60 | 13.04 | 15.65 | 19.19 | 21.44
19 | 5.67 | 7.14 | 9.81 | 13.33 | 16.01 | 19.66 | 22.10
20 | 5.74 | 7.25 | 9.98 | 13.61 | 16.35 | 20.09 | 22.74
21 | 5.82 | 7.38 | 10.17 | 13.88 | 16.69 | 20.51 | 23.36
22 | 5.89 | 7.48 | 10.35 | 14.13 | 16.99 | 20.90 | 23.97
23 | 5.97 | 7.61 | 10.54 | 14.35 | 17.28 | 21.27 | 24.56
24 | 6.02 | 7.70 | 10.69 | 14.59 | 17.57 | 21.63 | 25.14
25 | 6.10 | 7.80 | 10.86 | 14.80 | 17.84 | 21.96 | 25.70
26 | 6.16 | 7.90 | 11.01 | 15.02 | 18.10 | 22.29 | 26.25
27 | 6.24 | 8.00 | 11.15 | 15.21 | 18.34 | 22.59 | 26.79
28 | 6.29 | 8.09 | 11.32 | 15.41 | 18.58 | 22.88 | 27.31
29 | 6.36 | 8.19 | 11.46 | 15.58 | 18.80 | 23.16 | 27.83
30 | 6.42 | 8.28 | 11.58 | 15.75 | 19.01 | 23.44 | 28.33
31 | 6.49 | 8.35 | 11.72 | 15.92 | 19.23 | 23.71 | 28.82
32 | 6.54 | 8.45 | 11.85 | 16.08 | 19.42 | 23.96 | 29.30
33 | 6.60 | 8.54 | 11.98 | 16.24 | 19.61 | 24.20 | 29.78
34 | 6.66 | 8.60 | 12.09 | 16.39 | 19.79 | 24.42 | 30.24
35 | 6.72 | 8.69 | 12.22 | 16.54 | 19.96 | 24.64 | 30.70
36 | 6.77 | 8.76 | 12.35 | 16.68 | 20.14 | 24.85 | 31.14
37 | 6.82 | 8.83 | 12.44 | 16.82 | 20.30 | 25.06 | 31.58
38 | 6.88 | 8.92 | 12.56 | 16.94 | 20.45 | 25.25 | 32.01
39 | 6.94 | 8.98 | 12.66 | 17.06 | 20.60 | 25.43 | 32.43
40 | 6.99 | 9.06 | 12.77 | 17.19 | 20.76 | 25.63 | 32.85
41 | 7.05 | 9.14 | 12.87 | 17.31 | 20.90 | 25.80 | 33.26
42 | 7.10 | 9.20 | 12.97 | 17.41 | 21.03 | 25.96 | 33.66
43 | 7.14 | 9.27 | 13.07 | 17.52 | 21.17 | 26.13 | 34.05
44 | 7.19 | 9.32 | 13.16 | 17.62 | 21.29 | 26.28 | 34.44
45 | 7.24 | 9.40 | 13.26 | 17.73 | 21.42 | 26.43 | 34.74
46 | 7.29 | 9.46 | 13.35 | 17.84 | 21.54 | 26.58 | 34.93
47 | 7.35 | 9.53 | 13.43 | 17.92 | 21.66 | 26.72 | 35.12
48 | 7.39 | 9.59 | 13.53 | 18.02 | 21.75 | 26.85 | 35.30
49 | 7.43 | 9.65 | 13.62 | 18.11 | 21.87 | 26.99 | 35.46
50 | 7.48 | 9.70 | 13.68 | 18.20 | 21.98 | 27.13 | 35.63
51 | 7.53 | 9.77 | 13.78 | 18.28 | 22.08 | 27.24 | 35.78
52 | 7.57 | 9.83 | 13.86 | 18.37 | 22.18 | 27.36 | 35.94
53 | 7.62 | 9.88 | 13.92 | 18.45 | 22.28 | 27.48 | 36.10
54 | 7.66 | 9.95 | 14.01 | 18.53 | 22.37 | 27.60 | 36.24
55 | 7.70 | 9.98 | 14.09 | 18.60 | 22.45 | 27.70 | 36.38
56 | 7.76 | 10.06 | 14.16 | 18.68 | 22.55 | 27.81 | 36.52
57 | 7.80 | 10.11 | 14.24 | 18.75 | 22.63 | 27.92 | 36.64
58 | 7.84 | 10.16 | 14.30 | 18.82 | 22.71 | 28.01 | 36.77
59 | 7.89 | 10.21 | 14.38 | 18.89 | 22.80 | 28.10 | 36.89
60 | 7.93 | 10.26 | 14.46 | 18.95 | 22.86 | 28.20 | 37.02
61 | 7.99 | 10.33 | 14.52 | 19.02 | 22.95 | 28.30 | 37.18
62 | 8.03 | 10.37 | 14.58 | 19.09 | 23.01 | 28.37 | 37.33
63 | 8.05 | 10.43 | 14.66 | 19.14 | 23.09 | 28.46 | 37.49
64 | 8.09 | 10.47 | 14.72 | 19.19 | 23.15 | 28.54 | 37.63
65 | 8.14 | 10.52 | 14.78 | 19.26 | 23.23 | 28.62 | 37.77
66 | 8.19 | 10.58 | 14.84 | 19.31 | 23.28 | 28.70 | 37.90
67 | 8.24 | 10.62 | 14.91 | 19.38 | 23.36 | 28.77 | 38.04
68 | 8.27 | 10.67 | 14.98 | 19.43 | 23.41 | 28.85 | 38.18
69 | 8.31 | 10.71 | 15.04 | 19.48 | 23.48 | 28.93 | 38.29
70 | 8.35 | 10.77 | 15.10 | 19.54 | 23.53 | 28.99 | 38.43
Oversize parcels ⁵ | 34.75 | 38.94 | 45.10 | 54.87 | 66.41 | 82.14 | 106.31
¹ For Origin Bulk Mail Center Discount, deduct $0.90 per piece.
² For BMC Presort, deduct $0.23 per piece.
³ For barcode discount, deduct $0.03 per piece.
⁴ For nonmachinable Inter-BMC parcels, add $2.00 per piece.
⁵ See DMCS section 521.61 for oversize Parcel Post.
⁶ Parcel Post pieces exceeding 84 inches in length and girth combined and weighing less than 15 pounds are subject to a rate equal to that for a 15 pound parcel for the zone to which the parcel is addressed.
⁷ For each pickup stop, add $10.25.

Package Services Rate Schedule 521.2B
[Parcel Post Subclass Intra-BMC Rates]
Weight not exceeding (pounds) | Local | Zone 1&2 | Zone 3 | Zone 4 | Zone 5
1 | $2.74 | $3.04 | $3.04 | $3.04 | $3.04
2 | 2.74 | 3.04 | 3.04 | 3.04 | 3.04
3 | 2.98 | 3.44 | 3.47 | 3.47 | 3.47
4 | 3.20 | 3.60 | 3.86 | 3.86 | 3.93
5 | 3.40 | 3.74 | 4.18 | 4.21 | 4.40
6 | 3.56 | 3.88 | 4.48 | 4.50 | 4.83
7 | 3.63 | 4.00 | 4.74 | 4.77 | 5.23
8 | 3.72 | 4.14 | 4.98 | 5.02 | 5.61
9 | 3.80 | 4.24 | 5.18 | 5.27 | 5.96
10 | 3.88 | 4.37 | 5.44 | 5.51 | 6.29
11 | 3.95 | 4.47 | 5.62 | 5.72 | 6.59
12 | 4.03 | 4.59 | 5.78 | 5.93 | 6.90
13 | 4.10 | 4.69 | 5.92 | 6.13 | 7.16
14 | 4.17 | 4.78 | 6.02 | 6.33 | 7.43
15 | 4.23 | 4.87 | 6.16 | 6.50 | 7.68
16 | 4.31 | 4.95 | 6.30 | 6.67 | 7.91
17 | 4.36 | 5.05 | 6.43 | 6.85 | 8.13
18 | 4.42 | 5.12 | 6.56 | 7.00 | 8.36
19 | 4.47 | 5.22 | 6.68 | 7.15 | 8.56
20 | 4.55 | 5.29 | 6.80 | 7.28 | 8.75
21 | 4.59 | 5.36 | 6.92 | 7.40 | 8.94
22 | 4.64 | 5.45 | 7.02 | 7.52 | 9.12
23 | 4.70 | 5.51 | 7.15 | 7.63 | 9.30
24 | 4.75 | 5.58 | 7.25 | 7.73 | 9.46
25 | 4.81 | 5.64 | 7.35 | 7.83 | 9.62
26 | 4.85 | 5.72 | 7.44 | 7.93 | 9.78
27 | 4.90 | 5.78 | 7.55 | 8.02 | 9.92
28 | 4.95 | 5.84 | 7.65 | 8.10 | 10.06
29 | 5.01 | 5.91 | 7.75 | 8.19 | 10.20
30 | 5.07 | 5.97 | 7.83 | 8.27 | 10.35
31 | 5.11 | 6.03 | 7.90 | 8.34 | 10.47
32 | 5.15 | 6.10 | 8.00 | 8.42 | 10.59
33 | 5.21 | 6.15 | 8.08 | 8.49 | 10.73
34 | 5.25 | 6.21 | 8.15 | 8.55 | 10.83
35 | 5.29 | 6.26 | 8.24 | 8.62 | 10.94
36 | 5.33 | 6.31 | 8.31 | 8.68 | 11.07
37 | 5.37 | 6.38 | 8.38 | 8.74 | 11.17
38 | 5.41 | 6.43 | 8.46 | 8.80 | 11.28
39 | 5.47 | 6.49 | 8.54 | 8.85 | 11.37
40 | 5.51 | 6.53 | 8.60 | 8.90 | 11.48
41 | 5.56 | 6.60 | 8.69 | 8.95 | 11.57
42 | 5.60 | 6.64 | 8.75 | 9.00 | 11.66
43 | 5.64 | 6.68 | 8.82 | 9.05 | 11.76
44 | 5.70 | 6.74 | 8.88 | 9.10 | 11.84
45 | 5.73 | 6.78 | 8.94 | 9.23 | 11.93
46 | 5.77 | 6.85 | 9.02 | 9.27 | 12.01
47 | 5.82 | 6.90 | 9.07 | 9.31 | 12.09
48 | 5.86 | 6.94 | 9.14 | 9.35 | 12.19
49 | 5.89 | 6.99 | 9.20 | 9.39 | 12.26
50 | 5.93 | 7.02 | 9.26 | 9.42 | 12.34
51 | 5.98 | 7.09 | 9.31 | 9.46 | 12.41
52 | 6.01 | 7.13 | 9.39 | 9.49 | 12.48
53 | 6.05 | 7.16 | 9.43 | 9.52 | 12.55
54 | 6.10 | 7.20 | 9.47 | 9.56 | 12.63
55 | 6.14 | 7.25 | 9.50 | 9.60 | 12.69
56 | 6.17 | 7.30 | 9.53 | 9.63 | 12.75
57 | 6.21 | 7.35 | 9.55 | 9.65 | 12.83
58 | 6.25 | 7.39 | 9.58 | 9.68 | 12.89
59 | 6.29 | 7.43 | 9.61 | 9.71 | 12.95
60 | 6.31 | 7.48 | 9.63 | 9.73 | 13.02
61 | 6.38 | 7.53 | 9.66 | 9.76 | 13.08
62 | 6.40 | 7.57 | 9.68 | 9.81 | 13.13
63 | 6.44 | 7.61 | 9.70 | 9.87 | 13.19
64 | 6.48 | 7.65 | 9.72 | 9.91 | 13.25
65 | 6.52 | 7.69 | 9.75 | 9.96 | 13.30
66 | 6.54 | 7.75 | 9.77 | 10.02 | 13.37
67 | 6.60 | 7.79 | 9.79 | 10.07 | 13.41
68 | 6.63 | 7.81 | 9.80 | 10.11 | 13.46
69 | 6.64 | 7.86 | 9.82 | 10.16 | 13.52
70 | 6.65 | 7.90 | 9.84 | 10.21 | 13.57
Oversize parcels ³ | 19.82 | 28.99 | 28.99 | 28.99 | 28.99
¹ For barcode discount, deduct $0.03 per piece.
² For nonmachinable Intra-BMC parcels, add $1.35 per piece.
³ See DMCS section 521.61 for oversize Parcel Post.
⁴ Parcel Post pieces exceeding 84 inches in length and girth combined and weighing less than 15 pounds are subject to a rate equal to that for a 15 pound parcel for the zone to which the parcel is addressed.
⁵ For each pickup stop, add $10.25.

Package Services Rate Schedule 521.2C
[Parcel Post Subclass Parcel Select—Destination BMC Rates]
Weight not exceeding (pounds) | Zone 1 & 2 | Zone 3 | Zone 4 | Zone 5
1 | $2.13 | $2.48 | $2.75 | $2.99
2 | 2.13 | 2.48 | 2.75 | 2.99
3 | 2.36 | 2.89 | 3.31 | 3.42
4 | 2.57 | 3.27 | 3.81 | 3.88
5 | 2.78 | 3.63 | 4.16 | 4.35
6 | 2.96 | 3.97 | 4.45 | 4.78
7 | 3.14 | 4.28 | 4.72 | 5.18
8 | 3.31 | 4.59 | 4.97 | 5.56
9 | 3.47 | 4.87 | 5.22 | 5.91
10 | 3.63 | 5.15 | 5.46 | 6.24
11 | 3.77 | 5.41 | 5.67 | 6.54
12 | 3.91 | 5.66 | 5.88 | 6.85
13 | 4.05 | 5.87 | 6.08 | 7.11
14 | 4.18 | 5.97 | 6.28 | 7.38
15 | 4.30 | 6.11 | 6.45 | 7.63
16 | 4.42 | 6.25 | 6.62 | 7.86
17 | 4.53 | 6.38 | 6.80 | 8.08
18 | 4.65 | 6.51 | 6.95 | 8.31
19 | 4.75 | 6.63 | 7.10 | 8.51
20 | 4.86 | 6.75 | 7.23 | 8.70
21 | 4.96 | 6.87 | 7.35 | 8.89
22 | 5.06 | 6.97 | 7.47 | 9.07
23 | 5.15 | 7.10 | 7.58 | 9.25
24 | 5.24 | 7.20 | 7.68 | 9.41
25 | 5.33 | 7.30 | 7.78 | 9.57
26 | 5.42 | 7.39 | 7.88 | 9.73
27 | 5.50 | 7.50 | 7.97 | 9.87
28 | 5.59 | 7.60 | 8.05 | 10.01
29 | 5.67 | 7.70 | 8.14 | 10.15
30 | 5.75 | 7.78 | 8.22 | 10.30
31 | 5.82 | 7.85 | 8.29 | 10.42
32 | 5.90 | 7.95 | 8.37 | 10.54
33 | 5.97 | 8.03 | 8.44 | 10.68
34 | 6.04 | 8.10 | 8.50 | 10.78
35 | 6.11 | 8.19 | 8.57 | 10.89
36 | 6.18 | 8.26 | 8.63 | 11.02
37 | 6.25 | 8.33 | 8.69 | 11.12
38 | 6.31 | 8.41 | 8.75 | 11.23
39 | 6.37 | 8.49 | 8.80 | 11.32
40 | 6.44 | 8.55 | 8.85 | 11.43
41 | 6.50 | 8.64 | 8.90 | 11.52
42 | 6.56 | 8.70 | 8.95 | 11.61
43 | 6.62 | 8.77 | 9.00 | 11.71
44 | 6.67 | 8.83 | 9.05 | 11.79
45 | 6.73 | 8.89 | 9.18 | 11.88
46 | 6.79 | 8.97 | 9.22 | 11.96
47 | 6.84 | 9.02 | 9.26 | 12.04
48 | 6.89 | 9.09 | 9.30 | 12.14
49 | 6.94 | 9.15 | 9.34 | 12.21
50 | 6.97 | 9.21 | 9.37 | 12.29
51 | 7.04 | 9.26 | 9.41 | 12.36
52 | 7.08 | 9.34 | 9.44 | 12.43
53 | 7.11 | 9.38 | 9.47 | 12.50
54 | 7.15 | 9.42 | 9.51 | 12.58
55 | 7.20 | 9.45 | 9.55 | 12.64
56 | 7.25 | 9.48 | 9.58 | 12.70
57 | 7.30 | 9.50 | 9.60 | 12.78
58 | 7.34 | 9.53 | 9.63 | 12.84
59 | 7.38 | 9.56 | 9.66 | 12.90
60 | 7.43 | 9.58 | 9.68 | 12.97
61 | 7.48 | 9.61 | 9.71 | 13.03
62 | 7.52 | 9.63 | 9.76 | 13.08
63 | 7.56 | 9.65 | 9.82 | 13.14
64 | 7.60 | 9.67 | 9.86 | 13.20
65 | 7.64 | 9.70 | 9.91 | 13.25
66 | 7.70 | 9.72 | 9.97 | 13.32
67 | 7.74 | 9.74 | 10.02 | 13.36
68 | 7.76 | 9.75 | 10.06 | 13.41
69 | 7.81 | 9.77 | 10.11 | 13.47
70 | 7.85 | 9.79 | 10.16 | 13.52
Oversize parcels ³ | 18.85 | 20.65 | 27.84 | 28.94
¹ For barcode discount, deduct $0.03 per piece. Barcode discount is not available for DBMC mail entered at an ASF, except at the Phoenix, AZ ASF.
² For nonmachinable DBMC parcels, add $1.45 per piece.
³ See DMCS section 521.61 for oversize Parcel Post.
⁴ Parcel Post pieces exceeding 84 inches in length and girth combined and weighing less than 15 pounds are subject to a rate equal to that for a 15 pound parcel for the zone to which the parcel is addressed.
⁵ A mailing fee of $125.00 must be paid once each 12-month period for Parcel Select.

Package Services Rate Schedule 521.2D
[Parcel Post Subclass Parcel Select—Destination SCF Rates]
Weight not exceeding (pounds) |
1 | $1.71
2 | 1.71
3 | 1.85
4 | 1.99
5 | 2.12
6 | 2.24
7 | 2.35
8 | 2.45
9 | 2.56
10 | 2.65
11 | 2.74
12 | 2.83
13 | 2.92
14 | 3.00
15 | 3.08
16 | 3.15
17 | 3.22
18 | 3.29
19 | 3.36
20 | 3.43
21 | 3.49
22 | 3.55
23 | 3.61
24 | 3.67
25 | 3.73
26 | 3.78
27 | 3.83
28 | 3.89
29 | 3.94
30 | 3.99
31 | 4.03
32 | 4.08
33 | 4.13
34 | 4.17
35 | 4.21
36 | 4.26
37 | 4.30
38 | 4.34
39 | 4.38
40 | 4.42
41 | 4.46
42 | 4.50
43 | 4.53
44 | 4.57
45 | 4.61
46 | 4.64
47 | 4.67
48 | 4.71
49 | 4.74
50 | 4.77
51 | 4.80
52 | 4.84
53 | 4.87
54 | 4.90
55 | 4.93
56 | 4.96
57 | 4.98
58 | 5.01
59 | 5.04
60 | 5.07
61 | 5.10
62 | 5.12
63 | 5.15
64 | 5.17
65 | 5.20
66 | 5.22
67 | 5.25
68 | 5.27
69 | 5.30
70 | 5.32
Oversize parcels ¹ | 11.35
¹ See DMCS section 521.61 for oversize Parcel Post.
² Parcel Post pieces exceeding 84 inches in length and girth combined and weighing less than 15 pounds are subject to a rate equal to that for a 15 pound parcel for the zone to which the parcel is addressed.
³ A mailing fee of $125.00 must be paid once each 12-month period for Parcel Select.

Package Services Rate Schedule 521.2E
[Parcel Post Subclass Parcel Select—Destination Delivery Unit Rates]
Weight not exceeding pounds |
1 | 1.28
2 | 1.28
3 | 1.33
4 | 1.38
5 | 1.43
6 | 1.47
7 | 1.51
8 | 1.55
9 | 1.58
10 | 1.62
11 | 1.65
12 | 1.68
13 | 1.71
14 | 1.74
15 | 1.77
16 | 1.79
17 | 1.82
18 | 1.85
19 | 1.87
20 | 1.89
21 | 1.92
22 | 1.94
23 | 1.96
24 | 1.98
25 | 2.00
26 | 2.02
27 | 2.04
28 | 2.06
29 | 2.07
30 | 2.09
31 | 2.10
32 | 2.11
33 | 2.12
34 | 2.13
35 | 2.14
36 | 2.15
37 | 2.16
38 | 2.17
39 | 2.18
40 | 2.19
41 | 2.20
42 | 2.21
43 | 2.22
44 | 2.23
45 | 2.24
46 | 2.25
47 | 2.26
48 | 2.27
49 | 2.28
50 | 2.29
51 | 2.30
52 | 2.31
53 | 2.32
54 | 2.33
55 | 2.34
56 | 2.35
57 | 2.36
58 | 2.37
59 | 2.38
60 | 2.39
61 | 2.40
62 | 2.41
63 | 2.42
64 | 2.43
65 | 2.44
66 | 2.45
67 | 2.46
68 | 2.47
69 | 2.48
70 | 2.49
Oversize parcels ¹ | 6.98
¹ See DMCS section 521.61 for oversize Parcel Post.
² Parcel Post pieces exceeding 84 inches in length and girth combined and weighing less than 15 pounds are subject to a rate equal to that for a 15 pound parcel for the zone to which the parcel is addressed.
³ A mailing fee of $125.00 must be paid once year 12-month period for Parcel Select.

Package Services Rate Schedule 522A
[Bound printed matter subclass single piece rates]
Weight not exceeding (pounds) | Zones: 1 & 2 | Zones: 3 | Zones: 4 | Zones: 5 | Zones: 6 | Zones: 7 | Zones: 8
1 | $1.80 | $1.83 | $1.87 | $1.93 | $1.99 | $2.06 | $2.21
1.5 | 1.80 | 1.83 | 1.87 | 1.93 | 1.99 | 2.06 | 2.21
2 | 1.84 | 1.88 | 1.94 | 2.02 | 2.10 | 2.19 | 2.38
2.5 | 1.90 | 1.95 | 2.00 | 2.11 | 2.21 | 2.33 | 2.57
3 | 1.94 | 2.00 | 2.08 | 2.20 | 2.32 | 2.46 | 2.75
3.5 | 1.99 | 2.06 | 2.15 | 2.29 | 2.43 | 2.60 | 2.93
4 | 2.03 | 2.11 | 2.21 | 2.37 | 2.55 | 2.72 | 3.11
4.5 | 2.07 | 2.17 | 2.29 | 2.47 | 2.65 | 2.87 | 3.30
5 | 2.13 | 2.23 | 2.36 | 2.55 | 2.77 | 3.00 | 3.47
6 | 2.22 | 2.35 | 2.49 | 2.74 | 2.99 | 3.26 | 3.83
7 | 2.31 | 2.46 | 2.63 | 2.92 | 3.21 | 3.53 | 4.19
8 | 2.40 | 2.57 | 2.78 | 3.10 | 3.44 | 3.81 | 4.55
9 | 2.50 | 2.68 | 2.91 | 3.27 | 3.66 | 4.07 | 4.92
10 | 2.60 | 2.80 | 3.05 | 3.45 | 3.87 | 4.34 | 5.27
11 | 2.68 | 2.91 | 3.19 | 3.63 | 4.09 | 4.61 | 5.64
12 | 2.78 | 3.03 | 3.33 | 3.81 | 4.32 | 4.88 | 6.00
13 | 2.87 | 3.14 | 3.47 | 3.99 | 4.54 | 5.15 | 6.36
14 | 2.97 | 3.26 | 3.61 | 4.17 | 4.76 | 5.42 | 6.73
15 | 3.06 | 3.37 | 3.75 | 4.35 | 4.98 | 5.69 | 7.09
¹ For barcode discount, deduct $0.03 per piece.

Package Services Rate Schedule 522B
[Bound Printed Matter Subclass Basic Presort and Carrier Route Presort Rates]
Zone | Per piece: Basic ¹ | Per piece: Carrier route ² | Per pound
1 & 2 | $0.97 | $0.87 | $0.07
3 | 0.97 | 0.87 | 0.09
4 | 0.97 | 0.87 | 0.12
5 | 0.97 | 0.87 | 0.16
6 | 0.97 | 0.87 | 0.20
7 | 0.97 | 0.87 | 0.25
8 | 0.97 | 0.87 | 0.34
¹ For barcode discount, deduct $0.03 per piece.
² Applies to mailings of at least 300 pieces presorted to carrier route as specified by the Postal Service.

Package Services Rate Schedule 522C
[Bound Printed Matter Subclass Destination Entry Basic Presort]
| DBMC Zone 1&2 | DBMC Zone 3 | DBMC Zone 4 | DBMC Zone 5 | DSCF | DDU
Per Piece Rate | 0.83 | 0.83 | 0.83 | 0.83 | 0.69 | 0.62
Per Pound Rate | 0.06 | 0.09 | 0.12 | 0.16 | 0.06 | 0.03
¹ For barcode discount, deduct $0.03 per piece. Barcode discount is not available for DDU and DSCF rates and DBMC mail entered at an ASF (except Phoenix, Arizona ASF).
² A mailing fee of $125.00 must be paid once each 12-month period to mail at any destination entry Bound Printed Matter rate.

Package Services Rate Schedule 522D
[Bound Printed Matter Subclass Destination Entry Carrier Route Presort]
| DBMC Zone 1&2 | DBMC Zone 3 | DBMC Zone 4 | DBMC Zone 5 | DSCF | DDU
Per Piece Rate | 0.73 | 0.73 | 0.73 | 0.73 | 0.59 | 0.52
Per Pound Rate | 0.06 | 0.09 | 0.12 | 0.16 | 0.06 | 0.03
¹ A mailing fee of $125.00 must be paid once each 12-month period to mail at any destination entry Bound Printed Matter rate.

Package Services Rate Schedule 523
[Media Mail Subclass]
| Rates (dollars)
First Pound:
Not presorted⁴ | 1.33
Level A Presort (5-digits)¹, ² | 0.73
Level B Presort (BMC)¹, ³, ⁴ | 1.03
Each additional pound through 7 pounds | 0.45
Each additional pound over 7 pounds | 0.30
¹ A mailing fee of $125.00 must be paid once each 12-month period for each permit.
² For mailings of 500 or more pieces properly prepared and presorted to five-digit destination ZIP Codes.
³ For mailings of 500 or more pieces properly prepared and presorted to Bulk Mail Centers.
⁴ For barcode discount, deduct $0.03 per piece.

Package Services Rate Schedule 524
[Library Mail Subclass]
| Rates (dollars)
First Pound: |
Not presorted ⁴ | 1.26
Level A Presort (5-digits) 1, 2 | 0.69
Level B Presort (BMC) 1, 3, 4 | 0.98
Each additional pound through 7 pounds | 0.43
Each additional pound over 7 pounds | 0.29
¹ A mailing fee of $125.00 must be paid once each 12-month period for each permit.
² For mailings of 500 or more pieces properly prepared and presorted to five-digit destination ZIP Codes.
³ For mailings of 500 or more pieces properly prepared and presorted to Bulk Mail Centers.
⁴ For barcode discount, deduct $0.03 per piece.

Fee Schedule 911
[Address Corrections]
Description | Fee
Per manual correction | $0.60
Per automated correction | 0.20

Fee Schedule 912 ¹
Description | Fee
ZIP Coding of Mailing Lists
Per thousand addresses | $73.00
Correction of Mailing Lists
Per submitted address | $0.25
Minimum charge per list | $7.50
Address Changes for Election Boards and Registration Commissions
Per change of address | $0.23
Sequencing of Address Cards
Per correction | $0.25
¹ When rural routes have been consolidated or changed to another post office, no charge will be made for correction if the list contains only names of persons residing on the route or routes involved.

I. Post Office Boxes

Fee Schedule 921
[Post Office Boxes and Caller Service]
Fee Group: Box Size ² | Fee Group: B2 | Fee Group: C3 | Fee Group: C4 | Fee Group: C5 | Fee Group: D6 | Fee Group: D7 | Fee Group: E
Semi-annual Box Fees ¹:
1 | $30.00 | $27.50 | $22.50 | $19.00 | $10.00 | $8.50 | $0.00
2 | 45.00 | 40.00 | 32.50 | 27.50 | 16.00 | 13.00 | 0.00
3 | 85.00 | 75.00 | 60.00 | 50.00 | 25.00 | 22.50 | 0.00
4 | 170.00 | 150.00 | 125.00 | 87.50 | 50.00 | 40.00 | 0.00
5 | 300.00 | 250.00 | 212.50 | 150.00 | 90.00 | 65.00 | 0.00
¹ A customer ineligible for carrier delivery may obtain a post office box at Group E fees, subject to administrative decisions regarding customer's proximity to post office.
² Box Size 1 = under 296 cubic inches; 2 = 296-499 cubic inches; 3 = 500-999 cubic inches; 4 = 1000-1999 cubic inches; 5 = 2000 cubic inches and over.

II. Key Duplication and Lock Charges

Description | Fee
Key duplication or replacement | $4.00
Post office box lock replacement | 10.00

III. Semi-annual Caller Service Fee—$375.00

IV. Annual Call Number Reservation Fee

(All applicable Fee Groups)—$30.00.

Fee Schedule 931
[Business Reply Mail]
Description | Fee
Active business reply advance deposit account:
Per piece
Qualified (without optional Quarterly fee) | $0.05
Qualified (with optional Quarterly fee) | 0.01
Nonletter-size, using weight averaging | 0.01
Other | 0.10
Payment of postage due charges if active business reply mail advance deposit account not used:
Per piece | 0.35
Monthly Fees for customers using weight averaging for nonletter-size business reply | 600.00
Optional Qualified BRM Quarterly Fee | 1,800.00
Accounting fee for advance deposit account (see Fee Schedule 1000).
Permit fee (with or without advance deposit account) (see Fee Schedule 1000).

Fee Schedule 932
[Merchandise Return]
Description | Fee
Accounting fee for advance deposit account (see Fee Schedule 1000) |
Permit fee (see Fee Schedule 1000)

Fee Schedule 933
[On-Site Meter Service]
Description | Fee
Meter Service (per employee) | $31.00
Meters reset and/or examined (per meter) | 4.00
Checking meter in or out of service (per meter) | ¹ 4.00
¹ Fee does not apply to Secured Postage meters.

Fee Schedule 934

[Reserved]

Fee Schedule 935
[Bulk Parcel Return Service]
Description | Fee
Per Returned Piece | $1.62
Accounting fee for advance deposit account (see Fee Schedule 1000).
Permit fee (see Fee Schedule 1000).

Fee Schedule 936
[Shipper Paid Forwarding]
Description | Fee
Accounting fee for advance deposit account (see Fee Schedule 1000).

Fee Schedule 941
[Certified Mail]
Description | Fee (in addition to postage)
Per piece | $2.10

Fee Schedule 942
[Registered Mail]
Declared Value of Article ¹ | Fee (in addition to postage) | Handling charge
$ 0.00 | $7.25 |
0.01 to 100 | 7.50 |
100.01 to 500 | 8.25 |
500.01 to 1,000 | 9.00 |
1,000.01 to 2,000 | 9.75 |
2,000.01 to 3,000 | 10.50 |
3,000.01 to 4,000 | 11.25 |
4,000.01 to 5,000 | 12.00 |
5,000.01 to 6,000 | 12.75 |
6,000.01 to 7,000 | 13.50 |
7,000.01 to 8,000 | 14.25 |
8,000.01 to 9,000 | 15.00 |
9,000.01 to 10,000 | 15.75 |
10,000.01 to 11,000 | 16.50 |
11,000.01 to 12,000 | 17.25 |
12,000.01 to 13,000 | 18.00 |
13,000.01 to 14,000 | 18.75 |
14,000.01 to 15,000 | 19.50 |
15,000.01 to 16,000 | 20.25
16,000.01 to 17,000 | 21.00
17,000.01 to 18,000 | 21.75
18,000.01 to 19,000 | 22.50
19,000.01 to 20,000 | 23.25
20,000.01 to 21,000 | 24.00
21,000.01 to 22,000 | 24.75
22,000.01 to 23,000 | 25.50
23,000.01 to 24,000 | 26.25
24,000.01 to 25,000 | 27.00
25,000.01 to $1 million | 27.00 | plus 75 cents for each $1,000 (or fraction thereof) over $25,000.
Over $1 million to $15 million | 758.25 | plus 75 cents for each $1,000 (or fraction thereof) over $1 million.
Over $15 million | 11258.25 | plus amount determined by the Postal Service based on weight, space and value.
¹ Articles with a declared value of more than $25,000 can be registered, but compensation for loss or damage is limited to $25,000.

Fee Schedule 943
[Insurance]
Coverage | Fee¹ (in addition to postage)
Express Mail Insurance
Document Reconstruction:
$0.01 to $ 500 | no charge.
Merchandise:
$0.01 to $500 | no charge.
$500.01 to 5000 | $1.00 for each $100 (or fraction thereof) over $500 in value.
General Insurance
$0.01 to $50 | $1.10.
$50.01 to $100 | $2.00.
$100.01 to $5000 | $2.00 plus $1.00 for each $100 (or fraction thereof) over $100 in coverage.
¹ For bulk insurance coverage between $0.01 to $50.00, deduct $0.60 per price. For bulk insurance coverage between $50.01 to $5,000.00, deduct $0.80 per piece.

Fee Schedule 944
[Collect on Delivery]
Description | Fee (in addition to postage)
Amount to be collected, or Insurance Coverage Desired:
$0.01 to $50 | $4.50
50.01 to 100 | 5.50
100.01 to 200 | 6.50
200.01 to 300 | 7.50
300.01 to 400 | 8.50
400.01 to 500 | 9.50
500.01 to 600 | 10.50
600.01 to 700 | 11.50
700.01 to 800 | 12.50
800.01 to 900 | 13.50
900.01 to 1000 | 14.50
Notice of nondelivery of COD | 3.00
Alteration of COD charges or designation of new addressee | 3.00
Registered COD | 4.00

Fee Schedule 945
[Return Receipts]
Description | Fee (in addition to postage)
Receipt requested at time of mailing ¹:
Items other than merchandise | $1.50
Merchandise (without another special service) | 2.35
Receipt requested after mailing ² | 3.50
¹ This receipt shows the signature of the person to whom the mailpiece was delivered, the date of delivery and the delivery address, if such address is different from the address on the mailpiece.
² This receipt shows to whom the mailpiece was delivered and the date of delivery.

Fee Schedule 946
[Restricted Delivery]
Description | Fee (in addition to postage)
Per Piece | $3.20

Fee Schedule 947
[Certificate of Mailing]
Description | Fee (in addition to postage)
Individual Pieces
Original certificate of mailing for listed pieces of all classes of ordinary mail (per piece) | $0.75
Three or more pieces individually listed in a firm mailing book or an approved customer provided manifest (per piece) | 0.25
Each additional copy of original certificate of mailing or original mailing receipt for registered, insured, certified, and COD mail (each copy) | 0.75
Bulk Pieces
Identical pieces of First-Class and Standard Mail paid with ordinary stamps, precanceled stamps, or meter stamps are subject to the following fees:
Up to 1,000 pieces (one certificate for total number) | 3.50
Each additional 1,000 pieces or fraction | 0.40
Duplicate copy | 0.75

Fee Schedule 948
[Delivery Confirmation]
Description | Fee (in addition to postage)
Used in Conjunction with Priority Mail
Electronic | $0.00
Manual | 0.40
Used in Conjunction with Parcel Post, Bound Printed Matter, Library Mail, and Media Mail
Electronic | 0.12
Manual | 0.50
Used in Conjunction with Regular and Nonprofit Standard Mail
Electronic | 0.12

Fee Schedule 949
[Signature Confirmation]
Description | Fee (in addition to postage)
Used in Conjunction with Priority Mail
Electronic | $1.25
Manual | 1.75
Used in Conjunction with Parcel Post, Bound Printed Matter, Library Mail, and Media Mail
Electronic | 1.25
Manual | 1.75

Fee Schedule 951
[Parcel Air Lift]
Description | Fee (in addition to Parcel Post postage)
Up to 2 pounds | $0.40
Over 2 up to 3 pounds | 0.75
Over 3 up to 4 pounds | 1.15
Over 4 pounds | 1.55

Fee Schedule 952
[Special Handling]
Description | Fee (in addition to postage)
Not more than 10 pounds | $5.40
More than 10 pounds | 7.50

Fee Schedule 961
[Stamped Envelopes]
Description | Fee (in addition to postage)
Single Sale: #6¾ size and #10 size
Basic | $0.08
Special | 0.09
Household (50): #6¾ size through #10 size
Basic | 3.50
Special | 4.50
Bulk (500): #6¾ size
Plain Basic | 12.00
Printed Basic | 17.00
Bulk (500): >#6¾ size through #10 size
Plain Basic ¹, ² | 14.00
Printed Basic | 20.00
Plain Special | 19.00
Printed Special | 25.00
¹ Available in “double window” style.
² Available in “savings bond” style.
Note: “Basic” envelopes include “regular” (no window), “window” (single window), “pre-cancelled regular”, and “pre-cancelled window” styles. “Special” envelopes include all envelopes with patched in indicia. “Printed” envelopes are available with multi-color printing.

Fee Schedule 962
[Stamped Cards]
Description | Fee (in addition to postage)
Stamped Card | $0.02
Double Stamped Card | 0.04

Fee Schedule 971
[Money Orders]
Description | Fee
Domestic—$0.01 to $700 | $0.90
APO-FPO—$0.01 to $700 | 0.25
Inquiry Fee, which includes the issuance of copy of a paid money order | 2.75

Fee Schedule 981
[Mailing Online]
Description | Fee
Fees are calculated by multiplying 1.52 times the sum of printer contractual costs for the particular mailing and 0.5 cents per impression for other Postal Service costs
P = Printer Contractual Costs; I = Number of Impressions | 1.52×(P+0.5xI)
Certification of a system as functionally equivalent to Mailing Online (see Fee Schedule 1000).
This provision expires the later of:
a. three years after the implementation date specified by the Postal Service Board of Governors, or
b. if, by the expiration date specified in (a), a proposal to make Mailing Online permanent is pending before the Postal Rate Commission, the later of:
¹ three months after the Commission takes action on such proposal under section 3624 of Title 39, or
² if applicable—on the implementation date for a permanent Mailing Online.

Fee Schedule 1000
Description | Fee ¹
First-Class Presorted Mailing | $125.00
Regular, Enhanced Carrier Route, Nonprofit, and NonprofitEnhanced Carrier Route Standard Mail Bulk Mailing | 125.00
Periodicals
A. Original Entry | 350.00
B. Additional Entry | 50.00
C. Re-entry | 40.00
D. Registration for News Agents | 40.00
Parcel Select | 125.00
Bound Printed Matter: Destination BMC, SCF, and DDU | 125.00
Media Mail Presorted Mailing | 125.00
Library Mail Presorted Mailing | 125.00
Authorization to Use Permit Imprint | 125.00
Special Services
Bulk Parcel Return Service
A. Permit | 125.00
B. Accounting Fee (advance deposit account) | 375.00
Business Reply Mail
A. Permit (with or without advance deposit account) | 125.00
B. Accounting Fee (advance deposit account) | 375.00
Mailing Online ²
A. Certification of a system as functionally equivalent to Mailing Online | 125.00
Merchandise Return
A. Permit | 125.00
B. Accounting Fee (advance deposit account) | 375.00
Shipper Paid Forwarding
A. Accounting Fee (advance deposit account) | 375.00
¹ Fees must be paid once each 12-month period.
² This provision expires the later of:
a. Three years after the Mailing Online implementation date specified by the Postal Service Board of Governors, or
b. If, by the expiration date specified in (a), a proposal to make Mailing Online permanent is pending before the Postal Rate Commission, the later of:
1. Three months after the Commission takes action on such proposal under section 3624 of Title 39, or
2. —If applicable—on the implemenation date for a permanent Mailing Online.

Stanley F. Mires,
Chief Counsel, Legislative.

[FR Doc. 01-13063 Filed 5-22-01; 8:45 am]

BILLING CODE 7710-12-U